DEPARTMENT OF COMMERCE

International Trade Administration

[A-351-602, A-583-605, A-588-602, A-549-807, A-570-814]

Certain Carbon Steel Butt-Weld Pipe Fittings from Brazil, Taiwan, Japan, Thailand, and the People's Republic of China; Final Results of the Expedited Sunset Reviews of the Antidumping Duty Orders

AGENCY: Import Administration, International Trade Administration, Department of Commerce.

SUMMARY: On December 1, 2004, the Department of Commerce (“the Department”) initiated sunset reviews of the antidumping duty orders on certain carbon steel butt-weld pipe fittings (“pipe fittings”) from Brazil, Taiwan, Japan, Thailand, and the People's Republic of China pursuant to section 751(c) of the Tariff Act of 1930, as amended (“the Act”). On the basis of a notice of intent to participate and adequate substantive responses filed on behalf of domestic interested parties and inadequate response from respondent interested parties, the Department conducted expedited (120-day) sunset reviews. As a result of these sunset reviews, the Department finds that revocation of the antidumping duty orders would be likely to lead to continuation or recurrence of dumping. The dumping margins are identified in the Final Results of Review section of this notice.

EFFECTIVE DATE: July 8, 2005.

FOR FURTHER INFORMATION CONTACT: Hilary E. Sadler, Esq., Office of Policy for Import Administration, International Trade Administration, U.S. Department of Commerce, 14th Street & Constitution Avenue, NW., Washington, DC 20230; telephone: (202) 482-4340.

SUPPLEMENTARY INFORMATION:

Background:

On December 1, 2004, the Department published the notice of initiation of the second sunset reviews of the antidumping duty orders on pipe fittings from Brazil, Taiwan, Japan, Thailand, and the People's Republic of China pursuant to section 751(c) of the Act. See Initiation of Five-Year (“Sunset”) Reviews, 69 FR 69891 (December 1, 2004). The Department received the Notice of Intent to Participate from Trinity Industries, Inc.¹ (“Trinity”); Weldbend Corp. (“Weldbend”); Tubing Forgings of America, Inc.; and Mills Iron Works, Inc. (“TFA/Mills Iron”) (collectively “the domestic interested parties”), within the deadline specified in section 351.218(d)(1)(i) of the Department's Regulations (“Sunset Regulations”). The domestic interested parties claimed interested party status under section 771(9)(C) of the Act, as manufacturers of a domestic-like product in the United States. We received complete substantive responses from the domestic interested parties within the 30-day deadline specified in 19 CFR 351.218(d)(3)(i). We received no responses from the respondent interested parties. As a result, pursuant to section 751(c)(5)(A) of the Act and 19 CFR 351.218(e)(1)(ii)(C)(2), the Department conducted an expedited (120-day) sunset review of this order.

¹ Ladish Co., Inc. was a petitioner in the investigation. Trinity acquired the assets of Ladish relating to the production of carbon steel butt-weld pipe fittings in 1997. See Notice of Intent to Participate from Trinity Industries (December 17, 2004).

Scope of the Orders:

The products covered by these orders are pipe fittings from Brazil, Taiwan, Japan, Thailand, and China. Pipe fittings from Brazil, Taiwan, and Japan are defined as carbon steel butt-weld pipe fittings, other than couplings, under 14 inches in diameter, whether finished or unfinished form, that have been formed in the shape of elbows, tees, reducer, caps, etc., and, if forged, have been advanced after forging. These advancements may include any one or more of the following: coining, heat treatment, shot blasting, grinding, die stamping or painting. Such merchandise was classifiable under Tariff Schedules of the United States Annotated (“TSUSA”) item number 610.8800. These imports are currently classifiable under the Harmonized Tariff Schedule of the United States (“HTSUS”) item number 7307.93.30.

Pipe fittings from Thailand and China are defined as carbon steel butt-weld pipe fittings, having an inside diameter of less than 14 inches, imported in either finished or unfinished form. These formed or forged pipe fittings are used to join section in piping systems where conditions require permanent, welded connections, as distinguished from fittings based on other fastening methods (e.g., threaded grooved, or bolted fittings). These imports are currently classifiable under the HTSUS item number 7307.93.30.

The TSUSA and HTSUS subheadings are provided for convenience and customs purposes. The written description remains dispositive as to the scope of the product coverage for each of the orders.

Analysis of Comments Received

All issues raised in these reviews are addressed in the “Issues and Decision Memorandum” (“Decision Memo”) from Edward Yang, Senior Director, China/NME Office, Import Administration, to Joseph A. Spetrini, Acting Assistant Secretary for Import Administration, dated June 29, 2005, which is hereby adopted by this notice. The issues discussed in the Decision Memo include the likelihood of continuation or recurrence of dumping and the magnitude of the margins likely to prevail if the orders were to be revoked. Parties can find a complete discussion of all issues raised in these reviews and the corresponding recommendations in this public memorandum which is on file in room B-099 of the main Commerce Building.

In addition, a complete version of the Decision Memo can be accessed directly on the Web at http://ia.ita.doc.gov/frn, under the heading “July 2005.” The paper copy and electronic version of the Decision Memo are identical in content.

Final Results of Reviews

We determine that revocation of the antidumping duty orders on pipe fittings from Brazil, Taiwan, Japan, Thailand, and the People's Republic of China would be likely to lead to continuation or recurrence of dumping at the following weighted-average percentage margins:

Manufacturers/Exporters/Producers | Weighted Average Margin (percent)
Brazil
All Manufacturers/Producers/Exporters | 52.25
Taiwan
Rigid | 6.84
C.M. | 8.57
Gei Bay | 87.30
Chup Hsin | 87.30
All Others | 49.46
Japan
Awajoi Sangyo, K.K. | 30.83
Nippon Benkan Kogyo, Ltd. Co. | 65.81
All Others | 62.79
Thailand
Thai Benkan Company | 52.60
TTU Industrial Corp., Ltd. | 10.68
All Others | 39.10
People's Republic of China
China North Industries Corporation | 154.72
Jilin Provincial Machinery & Equipment Import & Export Corp. | 75.23
Liaoning Machinery & Equipment Import Export Corp. | 134.79
Liaoning Metals & Minerals Import & Export Corp. | 103.70
Shenyang Billiongold Pipe Fittings Co. Ltd. | 110.39
Shandong Metals & Minerals Import & Export Corp. | 35.06
Shenyang Machinery & Equipment Import & Export Corp;
Lianoning Metals; Shenzhen Machinery Industry Corp.;
and All Others | 182.90

This notice also serves as the only reminder to parties subject to administrative protective orders (“APO”) of their responsibility concerning the return or destruction of proprietary information disclosed under APO in accordance with 19 CFR 351.305 of the Department's regulations. Timely notification of the return or destruction of APO materials or conversion to judicial protective orders is hereby requested. Failure to comply with the regulations and terms of an APO is a violation which is subject to sanction.

We are issuing and publishing the results and notice in accordance with sections 751(c), 752, and 777(i)(1) of the Act.

Dated: June 29, 2005.
Joseph A. Spetrini,
Acting Assistant Secretary for Import Administration.

[FR Doc. E5-3596 Filed 6-7-05; 8:45 am]

Billing Code: 3510-DS-S